DEPARTMENT OF TRANSPORTATION

Pipeline and Hazardous Materials Safety Administration

[Docket No. PHMSA-2013-0090; Notice No. 13-04]

DEPARTMENT OF LABOR

Occupational Safety and Health Administration

Preparations for the 43rd Session of the United Nations Sub-Committee of Experts on the Transport of Dangerous Goods (UNSCOE TDG) and the 25th Session of the UN Sub-Committee of Experts on the Globally Harmonized System of Classification and Labelling of Chemicals (UNSCEGHS)

AGENCY: Pipeline and Hazardous Materials Safety Administration (PHMSA), Department of Transportation, and the Occupational Safety and Health Administration (OSHA), Department of Labor.

ACTION: Notice of public meeting.

SUMMARY: This notice is to advise interested persons that PHMSA and OSHA will conduct a joint public meeting in preparation for United Nations meetings being held in Geneva, Switzerland, this summer. PHMSA is hosting the morning portion of the meeting to discuss proposals in preparation for the 43rd session of the United Nations Sub-Committee of Experts on the Transport of Dangerous Goods (UNSCOE TDG) to be held June 24 to 28, 2013, in Geneva. During this meeting, PHMSA is also soliciting comments relative to potential new work items which may be considered for inclusion in its international agenda. OSHA is hosting the afternoon portion of the meeting to discuss proposals in preparation for the 25th session of the United Nations Sub-Committee of Experts on the Globally Harmonized System of Classification and Labelling of Chemicals (UNSCEGHS) to be held July 1 to 3, 2013, in Geneva. OSHA, along with the U.S. Interagency GHS Coordinating Group, plans to consider the comments and information gathered at this public meeting when developing the U.S. Government positions for the UNSCEGHS meeting.

DATES: Wednesday, June 12, 2013.

PHMSA Session: 9:00 a.m. to 12:00 noon.

OSHA Session: 2:00 p.m. to 5:00 p.m.

ADDRESSES: The meeting will be held at the DOT Headquarters, West Building, Conference Rooms 8-10, 1200 New Jersey Avenue SE., Washington, DC 20590.

Registration: It is requested that attendees pre-register for this meeting by completing the form at http://www.phmsa.dot.gov/hazmat/regs/international. Attendees may pre-register for the morning PHMSA session, the afternoon OSHA session, or both sessions of the meeting. Failure to pre-register may delay your access to the building. Participants attending in person are encouraged to arrive early to allow time for security checks necessary to obtain access to the building.

Conference call-in and “live meeting” capability will be provided for this meeting. Specific information on call-in and live meeting access will be posted when available at http://www.phmsa.dot.gov/hazmat/regs/international and at http://www.osha.gov/dsg/hazcom/.

FOR FURTHER INFORMATION CONTACT: Vincent Babich or Kevin Leary, Office of Hazardous Materials Safety, International Standards, Department of Transportation, Washington, DC 20590; telephone (202) 366-8553. You may also contact Maureen Ruskin, Office of Chemical Hazards-Metals, OSHA, Directorate of Standards and Guidance, Department of Labor, Washington, DC 20210; telephone: (202) 693-1950.

Copies of this Federal Register notice can be obtained as follows: Electronic copies are available at http://www.regulations.gov. This Federal Register notice, as well as other relevant information, is available also on the OSHA Web page at http://www.osha.gov.

SUPPLEMENTARY INFORMATION:

I. PHMSA Public Meeting (June 12, 2013; 9:00 a.m.-12:00 noon)

The primary purpose of this meeting will be to prepare for the 43rd session of the UNSCOE TDG. The 43rd session of the UNSCOE TDG is the first meeting scheduled for the 2013-2014 biennium. The UNSCOE will consider proposals for the 19th Revised Edition of the United Nations Recommendations on the Transport of Dangerous Goods Model Regulations which will be implemented within relevant domestic, regional, and international regulations from January 1, 2017. Copies of working documents, informal documents, and the meeting agenda may be obtained from the United Nations Transport Division's Web site at http://www.unece.org/trans/main/dgdb/dgsubc3/c3age.html.

General topics on the agenda for the UNSCOE TDG meeting include:

• Explosives and related matters

• Listing, classification and packing

• Electric storage systems

• Transport of gases

• Miscellaneous proposals of amendments to the Model Regulations

• Electronic data interchange for documentation purposes

• Cooperation with the International Atomic Energy Agency (IAEA)

• Global harmonization of transport of dangerous goods regulations

• Globally Harmonized System of Classification and Labelling of Chemicals (GHS)

Following the 43rd session of the UNSCOE TDG, a copy of the Sub-Committee's report will be available at the United Nations Transport Division's Web site at http://www.unece.org/trans/main/dgdb/dgsubc3/c3rep.html. PHMSA's site at http://www.phmsa.dot.gov/hazmat/regs/international provides additional information regarding the UNSCOE TDG and related matters.

II. OSHA Public Meeting (June 12, 2013; 2:00 p.m.-5:00 p.m.)

OSHA is hosting an open informal public meeting of the U.S. Interagency GHS Coordinating Group to provide interested groups and individuals with an update on GHS-related issues and an opportunity to express their views orally and in writing for consideration in developing U.S. Government positions for the upcoming UNSCEGHS meeting. Interested stakeholders may also provide input on issues related to OSHA's activities in the U.S.—Canada Regulatory Cooperation Council (RCC) at the meeting. The public is invited to attend and is requested to pre-register for the meeting by following the instructions provided in the “REGISTRATION” section of this notice.

General topics on the agenda include:

• Review of Working papers

• Review of 2013-2014 Program of work

• Working Group updates

• Regulatory Cooperation Council (RCC) Update

Information on the work of the UNSCEGHS, including meeting agendas, reports, and documents from previous sessions, can be found on the United Nations Economic Commission for Europe (UNECE) Transport Division Web site located at the following web address: http://www.unece.org/trans/welcome.html. The UNSCEGHS bases its decisions on Working Papers. The Working Papers for the 25th session of the UNSCEGHS are located at http://www.unece.org/trans/main/dgdb/dgsubc4/c42013.html. Informal Papers submitted to the UNSCEGHS are used either as a mechanism to provide information to the subcommittee or as the basis for future Working Papers. Informal Papers for the 25th session of the UNSCEGHS are located at http://www.unece.org/trans/main/dgdb/dgsubc4/c4inf25.html. The program of work for the 2013-2014 biennium is presented in the Report of the Sub-Committee of Experts on the Globally Harmonized System of Classification and Labelling of Chemicals on its twenty-fourth session and its addendum located at http://www.unece.org/fileadmin/DAM/trans/doc/2012/dgac10c4/ST-SG-AC10-C4-48e.pdf and http://www.unece.org/fileadmin/DAM/trans/doc/2012/dgac10c4/ST-SG-AC10-C4-48a1e.pdf.

Issued in Washington, DC, on May 16, 2013.
Magdy El-Sibaie,
Associate Administrator for Hazardous Materials Safety.
David Michaels,
Assistant Secretary of Labor for Occupational Safety and Health.

[FR Doc. 2013-12193 Filed 5-21-13; 8:45 am]

BILLING CODE 4910-60-P